DEPARTMENT OF AGRICULTURE

Forest Service

USDA Forest Service Open Space Conservation Strategy

AGENCY: Forest Service, USDA.

ACTION: Notice of Availability.

SUMMARY: The Forest Service is announcing the availability of the agency's Open Space Conservation Strategy. The Strategy provides a framework to strengthen and focus existing and new Forest Service actions for open space conservation. The goal of the Strategy is to conserve open space by protecting the most ecologically and socially important lands, conserving working lands as sustainable forests and grasslands; expanding and connecting open spaces in cities, suburbs, and towns; and reducing the potential ecological impacts and risks of development. The goal will be achieved through collaboration and partnerships—by working with willing landowners, conservation groups and State and local governments to promote voluntary land conservation. In developing the Strategy, the Forest Service solicited public comments through three Federal Register Notices: November 13, 2006 (71 FR 66162); December 14, 2006 (71 FR 75228); and June 22, 2007 (70 FR 34430). A total of over 22,000 comments were received during these comment periods.

FOR FURTHER INFORMATION CONTACT: Electronic copies of the Open Space Conservation Strategy document are available at http://www.fs.fed.us/openspace/OS_Strategy_final_web.pdf and hardcopies are available by contacting James Melonas, USDA Forest Service, Cooperative Forestry by telephone at (202) 205-1389 or by electronic mail at openspace@fs.fed.us. For general information about the Open Space Conservation Strategy and the loss of open space, visit the Forest Service's Open Space Web site: http://www.fs.fed.us/openspace. Individuals who use telecommunication devices for the deaf (TDD) may call the Federal Information Relay Service (FIRS) at 1-800-877-8339 between 8 a.m. and 8 p.m., Eastern Standard Time, Monday through Friday.

Dated: January 28, 2008.
James E. Hubbard,
Deputy Chief, State & Private Forestry.

[FR Doc. E8-2010 Filed 2-1-08; 8:45 am]

BILLING CODE 3410-11-P